DEPARTMENT OF HOMELAND SECURITY

Coast Guard

33 CFR Part 117

[USCG-2009-0228]

Drawbridge Operating Regulations; Back Bay of Biloxi, Biloxi, MS

AGENCY: Coast Guard, DHS.

ACTION: Notice canceling temporary deviation from regulations.

SUMMARY: The Coast Guard is canceling the temporary deviation concerning the operation of the I-110 bascule span bridge across the Back Bay of Biloxi, mile 3.0, in Biloxi, Harrison County, Mississippi. The deviation allowed the bridge to remain closed to navigation for two (2) two-hour periods daily to facilitate the movement of vehicular traffic.

DATES: The temporary deviation published on April 13, 2009 (74 FR 16781) is cancelled as of May 20, 2009.

ADDRESSES: The docket for this cancelled deviation is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, selecting the Advanced Docket Search option on the right side of the screen, inserting USCG-2009-0228 in the Docket ID box, pressing Enter, and then clicking on the item in the Docket ID column.

FOR FURTHER INFORMATION CONTACT: David Frank, Bridge Administration Branch, telephone (504) 671-2128.

Background and Purpose

On April 13, 2009, we published a temporary deviation entitled “Drawbridge Operating Regulations; Back Bay of Biloxi, Biloxi, Mississippi” in the Federal Register (74 FR 16781). The temporary deviation concerned allowing the I-110 bridge across the Back Bay of Biloxi, mile 3.0, in Biloxi, Harrison County, Mississippi to remain closed to navigation for two (2) two-hour periods daily to facilitate the movement of vehicular traffic. This deviation from the operating regulations was authorized under 33 CFR 117.35.

Cancellation

The deviation was established to facilitate the flow of increased vehicular traffic on the I-110 bridge caused by the allision to the Popps Ferry Rd. bridge. The Popps Ferry Rd. bridge was damaged in an allision on March 20, 2009 when two sections of the roadway were destroyed. The bridge was returned to service on April 25, 2009, thus reducing the vehicular traffic on the I-110 bridge during the morning and afternoon rush hours.

Dated: April 29, 2009.
David M. Frank,
Bridge Administrator.

[FR Doc. E9-11689 Filed 5-19-09; 8:45 am]

BILLING CODE 4910-15-P